DEPARTMENT OF HEALTH AND HUMAN SERVICES

National Institutes of Health

Submission for OMB Review; Comment Request; Agricultural Health Study (A Prospective Cohort Study of Cancer and Other Diseases Among Men and Women in Agriculture)—Validation Sub-Study, on Rheumatoid Arthritis

SUMMARY: Under the provisions of Section 3507(a)(1)(D) of the Paperwork Reduction Act of 1995, the National Cancer Institute (NCI), the National Institutes of Health (NIH) has submitted to the Office of Management and Budget (OMB) a request for review and approval of the information collection listed below. This proposed information collection was previously published in the Federal Register on Tuesday, October 23, 2001, pages 53618-53619 and allowed 60 days for public comment. No public comments were received. The purpose of this notice is to allow an additional 30 days for public comment. The National Institutes of Health may not conduct or sponsor, and the respondent is not required to respond to, an information collection that has been extended, revised, or implemented on or after October 1, 1995, unless it displays a currently valid OMB control number.

Proposed Collection

Title: Agricultural Health Study (A Prospective Cohort Study of Cancer and Other Diseases Among Men and Women in Agriculture)—validation sub-study on Rheumatoid Arthritis.

Type of Information Collection Request: Revision of a currently approved collection (0925-0406, expiration 11/31/03).

Need and Use of Information Collection: The Agricultural Health Study is an ongoing prospective cohort study of 89,189 farmers, their spouses, and commercial applicators of pesticides from Iowa and North Carolina. The proposed collection of additional information is intended to assess the validity of self-reported Rheumatoid Arthritis (RA) in the Agricultural Health Study (AHS) within small subgroups of individuals. The collection is intended to identify confirmed cases of RA to include in etiologic analyses of farming exposures and RA; evaluate the efficacy of certain questions or sets of questions for screening out false-positives for self-reported RA and identify subgroups to target for future etiologic studies of RA, based on a relatively high prevalence of RA and the feasibility of disease confirmation.

Frequency of Response: Single time reporting.

Affected Public: Individuals or households, Farms.

Type of Respondents: Private pesticide applicators and their spouses. The annual reporting burden is as follows:

Estimated Number of Respondents: 11,373..

Estimated Number of Responses per Respondent: 2.2;

Average Burden Hours Per Response: 1.18.

Estimated Total Annual Burden Hours Requested: 13,433.

The annualized cost to respondents is estimated at: $138,045. There are no Capital Costs to report. There are no Operating or Maintenance Costs to report.

Request for Comments

Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB

Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Michael C.R. Alavanja, Dr. P.H., Division of Epidemiology and Genetics, National Cancer Institute, Executive Plaza South, Suite 8000, 6120 Executive Boulevard, Rockville, MD 20852, or call non-toll free (301) 435-4720, or E-mail your request, including your address to: alavanjam@mail.nih.gov

Comments Due Date

Comments regarding this information collection are best assured of having their full effect if received within 30 days of the date of this publication.

Dated: March 15, 2002.
Reesa Nichols,
NCI Project Clearance Liaison.

[FR Doc. 02-7055 Filed 3-22-02; 8:45 am]

BILLING CODE 4140-01-M